DEPARTMENT OF DEFENSE

Department of the Navy

Notice of Availability of Government-Owned Inventions; Available for Licensing

AGENCY: Department of the Navy, DoD.

ACTION: Notice.

SUMMARY: The inventions listed below are assigned to the United States Government as represented by the Secretary of the Navy. U.S. Patent Number 6,664,915 entitled “Identification Friend or Foe System Including Short Range UV Shield” issued on December 16, 2003; U.S. Patent Number 7,661,271 entitled “Integrated Electric Gas Turbine” issued on February 16, 2010; U.S. Patent Number 6,600,694 entitled “Digital Signal Processor Based Torpedo Counter-measure” issued on July 29, 2003; U.S. Patent Number 6,717,525 entitled “Tactical Vectoring Equipment (TVE)” issued on April 6, 2004; U.S. Patent Number 6,624,780 entitled “False Target Radar Image Generator for Countering Wideband and Imaging Radars” issued on September 11, 2003; U.S. Patent Number 7,725,595 entitled “Embedded Communications System and Method” issued on May 25, 2010; U.S. Patent Number 7,074,697 entitled “Doping-assisted Defect Control in Compound Semiconductors” issued on July 11, 2006; U.S. Patent Number 7,675,198 entitled “Inductive Pulse Forming Network for High-current, High-power applications” issued on March 9, 2010; U.S. Patent Number 7,627,003 entitled “Automatic Clock Synchronization and Distribution Circuit for Counter Clock Flow Pipelined Systems” issued on December 1, 2009; U.S. Patent Number 7,811,918 entitled “Electric Current Induced Liquid Metal Flow and Metallic Conformal Coating of Conductive Templates” issued on October 12, 2010; U.S. Patent Application Number 12/987,873 filed on January 20, 2011, Case Number 20090009 entitled “Data Compression Methods”; U.S. Provisional Patent Application Number 61/446,770 filed on February 25, 2011, Case Number 20110005 entitled “Near Lossless Data Compression Method Using Nonuniform Sampling”.

ADDRESSES: Requests for copies of the inventions should be directed to Danielle Kuska, Director, Research and Sponsored Programs Office, NPS Code 41, 699 Dyer Road, Bldg. HA, Room 222, Monterey, CA 93943, telephone 831-656-2099 or e-mail dkuska@nps.edu.

FOR FURTHER INFORMATION CONTACT: Danielle Kuska, Director, Research and Sponsored Programs Office, NPS Code 41, 699 Dyer Road, Bldg. HA, Room 222, Monterey, CA 93943, telephone 831-656-2099. Due to U.S. Postal delays, please fax 831-656-2038, e-mail: dkuska@nps.edu or use courier delivery to expedite response.

Authority: 35 U.S.C. 207, 37 CFR part 404.

Dated: May 18, 2011.
D.J. Werner,
Lieutenant Commander, Judge Advocate General's Corps, U.S. Navy, Federal Register Liaison Officer.

[FR Doc. 2011-12924 Filed 5-24-11; 8:45 am]

BILLING CODE 3810-FF-P